DEPARTMENT OF HOMELAND SECURITY

Federal Emergency Management Agency

[Docket ID FEMA-2013-0017; OMB No. 1660-0086]

Agency Information Collection Activities; Proposed Collection; Comment Request

AGENCY: Federal Emergency Management Agency, DHS.

ACTION: Notice.

SUMMARY: The Federal Emergency Management Agency, as part of its continuing effort to reduce paperwork and respondent burden, invites the general public and other Federal agencies to take this opportunity to comment on an extension of a currently approved collection. In accordance with the Paperwork Reduction Act of 1995, this notice seeks comments concerning the National Flood Insurance Program, Mortgage Portfolio Protection Program (MPPP), which is an option that companies participating in the National Flood Insurance Program can use to bring their mortgage loan portfolios into compliance with the flood insurance purchase requirements.

DATES: Comments must be submitted on or before August 12, 2013.

ADDRESSES: To avoid duplicate submissions to the docket, please use only one of the following means to submit comments:

(1) Online. Submit comments at www.regulations.gov under Docket ID FEMA-2013-0017. Follow the instructions for submitting comments.

(2) Mail. Submit written comments to Docket Manager, Office of Chief Counsel, DHS/FEMA, 500 C Street SW., Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Susan Bernstein, Program Analyst; Mitigation Division, (202) 212-2113 for additional information. You may contact the Records Management Division for copies of the proposed collection of information at facsimile number (202) 646-3347 or email address: FEMA-Information-Collections-Management@dhs.gov.

SUPPLEMENTARY INFORMATION: The National Flood Insurance Program (NFIP) is authorized in Public Law 90-448 (1968) and expanded by Public Law 93-234 (1973), and is codified as 42 U.S.C. 4001, et seq. Public Law 103-325 (1994) expands upon this and provides federally supported flood insurance for existing buildings exposed to flood risk. In accordance with Public Law 93-234, the purchase of flood insurance is mandatory when federal or federally related financial assistance is being provided for acquisition in flood hazard areas of communities that are participating in the program. The Mortgage Portfolio Protection program (MPPP) is an option that companies participating in the NFIP can use to bring their mortgage loan portfolios into compliance with the flood insurance purchase requirements of the three public laws described above. 44 CFR 62.23(l)(1), with 44 CFR part 62, Appendix A implements the MPPP requirements for specific notices and other procedures be adhered. Insurance companies applying for or renewing their participation in the Write Your Own (WYO) program must indicate that they will adhere to the requirements of the MPPP if they are electing to voluntarily participate in the MPPP.

Collection of Information

Title: National Flood Insurance Program—Mortgage Portfolio Protection Program.

Type of Information Collection: Extension, without change, of a currently approved information collection.

FEMA Forms: None.

Abstract: FEMA needs the information to ensure that insurance companies that join the NFIP's WYO program meet all state and federal requirements for insurance companies; these include a good record and are well rated in their field. There is no other way to obtain this information which is specific to each company that applies to join the NFIP.

Affected Public: Business or other non-profits.

Number of Respondents: 341.

Number of Responses: 341.

Estimated Total Annual Burden Hours: 171.

Estimated Cost: There are no record keeping, capital, start-up or maintenance costs associated with this information collections.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 4, 2013.
Charlene D. Myrthil,
Director, Records Management Division, Mission Support Bureau, Federal Emergency Management Agency, Department of Homeland Security.

[FR Doc. 2013-13922 Filed 6-11-13; 8:45 am]

BILLING CODE 9110-11-P